DEPARTMENT OF ENERGY

Federal Energy Regulatory Commission

Combined Notice of Filings #1

May 3, 2007.

Take notice that the Commission received the following electric rate filings

Docket Numbers: ER05-717-006; ER05-721-006; ER04-374-006; ER99-2341-008; ER06-230-003; ER06-1334-003; ER07-277-001.

Applicants: Spring Canyon Energy LLC; Judith Gap Energy LLC; Invenergy TN LLC; Hardee Power Partners Limited; Wolverine Creek Energy LLC; Spindle Hill Energy LLC; and Invenergy Cannon Falls LLC;

Description: Spring Canyon Energy LLC, Judith Gap Energy LLC, and Invenergy TN LLC's et al Notification of change in status under market-based rate authority.

Filed Date: 04/27/2007.

Accession Number: 20070501-0288.

Comment Date: 5 p.m. Eastern Time on Friday, May 18, 2007.

Docket Numbers: ER06-427-006.

Applicants: Mystic Development, LLC.

Description: Electric Refund Report of Mystic Development, LLC in Compliance with Feb. 21, 2007 Letter Order.

Filed Date: 04/17/2007.

Accession Number: 20070417-4003.

Comment Date: 5 p.m. Eastern Time on Tuesday, May 08, 2007.

Docket Numbers: ER07-129-003.

Applicants: Atlantic Path 15, LLC.

Description: Atlantic Path 15 LLC submits First Revised Sheet 16 et al to its FERC Electric Tariff, Original Volume No.1 to reflect the annual update of the Transmission Balancing Account Adjustment to become effective 1/1/07.

Filed Date: 04/30/2007.

Accession Number: 20070502-0303.

Comment Date: 5 p.m. Eastern Time on Monday, May 21, 2007.

Docket Numbers: ER07-700-001.

Applicants: Bangor Hydro-Electric Company.

Description: Bangor Hydro-Electric Company proposes to amend the 4/2/07 filing to include the additional ministerial revisions and to incorporate the tariff revisions.

Filed Date: 04/30/2007.

Accession Number: 20070502-0302.

Comment Date: 5 p.m. Eastern Time on Monday, May 21, 2007.

Docket Numbers: ER07-806-000.

Applicants: New York Independent System Operator, Inc.

Description: New York Independent System Operator, Inc submits proposed revisions to its Market Administration and Control Area Services Tariff.

Filed Date: 04/27/2007.

Accession Number: 20070501-0316.

Comment Date: 5 p.m. Eastern Time on Friday, May 18, 2007.

Docket Numbers: ER07-809-000.

Applicants: Florida Power Corporation.

Description: Florida Power Corp dba Progress Energy Florida, Inc submits a modification of the 8/1/90 Interconnection Agreement for construction of transmission facilities.

Filed Date: 04/27/2007.

Accession Number: 20070501-0317.

Comment Date: 5 p.m. Eastern Time on Friday, May 18, 2007.

Docket Numbers: ER07-810-000.

Applicants: Grays Harbor Energy LLC.

Description: Grays Harbor Energy LLC submits an application for authorization to make market-based wholesale sales of energy, capacity and ancillary services and its FERC Electric Tariff No. 1.

Filed Date: 04/27/2007.

Accession Number: 20070501-0318.

Comment Date: 5 p.m. Eastern Time on Friday, May 18, 2007.

Docket Numbers: ER07-811-000.

Applicants: Midwest Independent Transmission System Operator, Inc.

Description: Midwest ISO submits the redispatch agreement with East Kentucky Power Cooperative.

Filed Date: 04/30/2007.

Accession Number: 20070501-0319.

Comment Date: 5 p.m. Eastern Time on Monday, May 21, 2007.

Docket Numbers: ER07-812-000.

Applicants: Pacific Gas and Electric Company.

Description: Pacific Gas and Electric Company submits its Seventeenth Quarterly Filing of Facilities Agreements with City and County of San Francisco. Part 1 of 2.

Filed Date: 04/30/2007.

Accession Number: 20070501-0297.

Comment Date: 5 p.m. Eastern Time on Monday, May 21, 2007.

Docket Numbers: ER07-814-000.

Applicants: Southern California Edison Company.

Description: Southern California Edison Co submits their amended Interconnection Facilities Agreement with Mountainview Power Co LLC designated as Service Agreement No. 6 under its Transmission Owner Tariff, 2nd Rev Vol No. 6.

Filed Date: 04/30/2007.

Accession Number: 20070502-0308.

Comment Date: 5 p.m. Eastern Time on Monday, May 21, 2007.

Docket Numbers: ER07-815-000.

Applicants: Midwest Independent Transmission System Operator, Inc.

Description: Midwest ISO submits an Amended and Restated Facilities Construction Agreement among Lousiville Gas and Electric Company and Kentucky Utilities Company.

Filed Date: 04/30/2007.

Accession Number: 20070502-0307.

Comment Date: 5 p.m. Eastern Time on Monday, May 21, 2007.

Docket Numbers: ER07-816-000.

Applicants: Tampa Electric Company.

Description: Tampa Electric Co submits Fifth Revised Sheet Nos. 41 and 59 for inclusion in their open access transmission tariff under Service Schedule B etc, effective 5/1/07.

Filed Date: 04/30/2007.

Accession Number: 20070502-0209.

Comment Date: 5 p.m. Eastern Time on Monday, May 21, 2007.

Docket Numbers: ER07-817-000.

Applicants: Entergy Services, Inc.

Description: Entergy Services, Inc agent for the Entergy Operating Companies submit an executed Second Revised Network Integration Transmission Service Agreement with Cleco Power LLC.

Filed Date: 04/30/2007.

Accession Number: 20070502-0306.

Comment Date: 5 p.m. Eastern Time on Monday, May 21, 2007.

Docket Numbers: ER07-818-000.

Applicants: Indeck-Olean Limited Partnership.

Description: Indeck-Olean Limited Partnership submits a filing to revise its market-based rate authority tariff.

Filed Date: 04/30/2007.

Accession Number: 20070502-0305.

Comment Date: 5 p.m. Eastern Time on Monday, May 21, 2007.

Docket Numbers: ER07-819-000.

Applicants: Tampa Electric Company.

Description: Tampa Electric Company submits revised schedule sheets for inclusion in the rate schedules comprising their Agreements to Provide Qualifying Facility Transmission Service with Mosaic Fertilizer LLC et al.

Filed Date: 04/30/2007.

Accession Number: 20070502-0304.

Comment Date: 5 p.m. Eastern Time on Monday, May 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-8963 Filed 5-9-07; 8:45 am]

BILLING CODE 6717-01-P